DEPARTMENT OF COMMERCE

National Oceanic and Atmospheric Administration

50 CFR Part 660

[RTID 0648-XD487]

Amendment 8 Revisions to Essential Fish Habitat in the Fishery Management Plan for U.S. West Coast Fisheries for Highly Migratory Species

AGENCY: National Marine Fisheries Service (NMFS), National Oceanic and Atmospheric Administration (NOAA), Commerce.

ACTION: Notification of agency decision.

SUMMARY: NMFS announces the approval of amendment 8 to the Fishery Management Plan (FMP) for the U.S. West Coast Highly Migratory Species (HMS). This amendment updates essential fish habitat (EFH) provisions in the existing HMS FMP. This amendment promotes the goals and objectives of the Magnuson-Stevens Fishery Conservation and Management Act (MSA) which requires periodic review and revision of EFH components of FMPs as warranted based on available information.

DATES: The amendment was approved on October 21, 2024.

ADDRESSES: Electronic copies of the amendment may be obtained from https://www.regulations.gov or the West Coast Region website at https://www.fisheries.noaa.gov/action/amendment-8-revisions-essential-fish-habitat-fishery-management-plan-us-west-coast-highly. Additional documents can be found on the Council's website at https://www.pcouncil.org.

FOR FURTHER INFORMATION CONTACT: Nicole Nasby-Lucas at (858) 334-2826, nicole.nasby-lucas@noaa.gov, or Eric Chavez at (562) 980-4064, eric.chavez@noaa.gov.

SUPPLEMENTARY INFORMATION:

Background

The MSA requires that each regional fishery management council submit any FMP amendment it prepares to NMFS for review and approval, disapproval, or partial approval by the Secretary (16 U.S.C. 1854(a)). NMFS manages the HMS fisheries off the U.S. Pacific Coast under the HMS FMP. The Pacific Fishery Management Council (Council) prepared the FMP under the authority of the MSA, 16 U.S.C. 1801 et seq. Regulations governing U.S. fisheries and implementing the FMPs appear at 50 CFR parts 600 and 660.

The MSA mandates that each FMP describe and identify EFH for the fishery (16 U.S.C. 1853(7)). EFH is defined as “those waters and substrate necessary to fish for spawning, breeding, feeding or growth to maturity” (16 U.S.C. 1802(10)). Under this authority, NMFS and the Council have developed a comprehensive strategy to conserve EFH. This includes incorporating EFH into each of the Council's FMPs, identifying fishing and non-fishing impacts and associated conservation recommendations, and other required EFH elements. EFH requirements and the process for periodic EFH reviews are described in the EFH regulations at 50 CFR 600.815(a). EFH components for each management unit species (MUS) were included in appendix A to the Final Environmental Impact Statement when NMFS approved the HMS FMP in 2004 and have not been reviewed since that time.

This FMP amendment includes eight major components that (1) update the description and identification of EFH, (2) include new maps for each MUS in the HMS FMP, (3) update information on life history, (4) update information on fishing impacts, (5) update information on non-fishing impacts and conservation measures, (6) update text on habitat areas of particular concern (HAPCs), (7) update research and information needs, and (8) add a reference to Council's Operating Procedure 22 as a description of the review and revision process. The revised FMP text and appendix F include supporting information and rationale for the modifications adopted by the Council.

Further detail describing the amendments was provided in the Notice of Availability (NOA) for this action and is not repeated here.

Procedural Aspects of the Amendment

The Council submitted the amendments to the Secretary for review on June 28, 2024. On July 24, 2024, NMFS published the NOA for the amendment and requested public review and comment (87 FR 21603). Public comments were received pertaining to the HMS FMP amendment and are addressed below.

The amendment does not add any new reporting requirements and does not change any regulatory requirements. Therefore, no proposed or final rule was prepared. This action only adds to or updates HMS EFH provisions in the HMS FMP.

Comments and Responses

NMFS received seven comments during the comment period on amendment 8 revisions to EFH in the HMS FMP, which ended on September 23, 2024. Six comments were in support of the amendment, and two of those encouraged consideration of HAPCs. One of the comments was outside of the scope of this action.

Comments 1-4: The commenters expressed support for the amendment as a fishery management tool for the protection of species, including the creation of new maps, advisories on fishing impact, and recognition of needs for additional research.

Response: NMFS thanks the commenters for the support of this amendment. NMFS agrees that the updated maps will help achieve the overall EFH objectives of supporting a sustainable fishery and the managed species' contribution to a healthy ecosystem. NMFS agrees that it is important to identify any potential adverse effects on EFH from fishing activities, including lost fishing gear and discharge of processing waste, and whether any additional measures are needed to address those adverse effects. NMFS also agrees that additional research is needed to improve our understanding of fish habitats, the functions they provide, and adverse effects from both fishing and non-fishing activities.

Comments 5-6: The commenters expressed support for the amendment and reaffirmed the importance of updating information, identifying fishing and non-fishing impacts, and considering HAPCs. One commenter was concerned about the risk of delaying protective measures for vulnerable areas, such as shark nurseries and migratory corridors.

Response: NMFS thanks the commenters for the support of this amendment. NMFS agrees that updating species information is important particularly since newer information is based on current fishery-independent information that was not available when the original EFH descriptions were adopted. NMFS agrees that it is important to identify potential adverse effects on EFH from fishing and non-fishing activities that may adversely affect HMS EFH along with any appropriate conservation measures. NMFS also agrees with the importance of HAPCs, although none were proposed at this time. Available data do not point to a focused pupping ground for sharks and available electronic tagging data across species reveals no specific migratory pathway within the U.S. Exclusive Economic Zone. However, we recommend additional research to collect more information that could inform consideration of HAPCs in the future.

Authority: 16 U.S.C. 1801 et seq.

Dated: October 21, 2024.
Samuel D. Rauch III,
Deputy Assistant Administrator for Regulatory Programs, National Marine Fisheries Service.

[FR Doc. 2024-24869 Filed 10-25-24; 8:45 am]

BILLING CODE 3510-22-P